DEPARTMENT OF HOMELAND SECURITY

Federal Emergency Management Agency

[Docket ID: FEMA-2021-0023; OMB No. 1660-0146]

Agency Information Collection Activities: Proposed Collection; Comment Request; Post Disaster Survivor Preparedness Research Survey

AGENCY: Federal Emergency Management Agency, Department of Homeland Security.

ACTION: 60-day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning a collection to obtain information from recent disaster survivors while they have current memories of their experience to better provide necessary direction, coordination, and guidance for emergency preparedness for the protection of life and property in the United States from hazards.

DATES: Comments must be submitted on or before December 13, 2021.

ADDRESSES: Submit comments at www.regulations.gov under Docket ID FEMA-2021-0023. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Christi Collins, Individual and Community Preparedness Branch Chief, Federal Emergency Management Agency, at (202) 646-2500 or FEMA-Prepare@fema.dhs.gov. You may contact the Information Management Division for copies of the proposed collection of information at email address: FEMA-Information-Collections-Management@fema.dhs.gov.

SUPPLEMENTARY INFORMATION: The Stafford Act, Title VI, Emergency Preparedness (42 U.S.C. 5195-5195(a)) identifies the purpose of emergency preparedness “for the protection of life and property in the United States from hazards.” It directs that the Federal Government “provide necessary direction, coordination, and guidance” as authorized for a comprehensive emergency preparedness system for all hazards. Emergency preparedness is defined as all “activities and measures designed or undertaken to prepare or minimize the effects of a hazard upon the civilian population. . .” The “conduct of research” is among the measures to be undertaken in preparation for hazards.

Collection of Information

Title: Post Disaster Survivor Preparedness Research Survey.

Type of Information Collection: Revision of a currently approved information collection.

OMB Number: 1660-0146

FEMA Forms: FEMA Form FF-008-FY-21-112 (formerly FEMA Form 519-0-54), Post Disaster Survivor Preparedness Research: Instruments

Abstract: The economic and human toll of major disasters in the United States is increasing and historically underserved communities are disproportionately impacted. Poverty, race, limited English proficiency, age, and other demographic, cultural, and socio-economic variables can significantly inhibit people's ability to take steps to prepare. To reverse this trend, emergency managers must ensure historically undeserved communities receive critical information that helps each person take steps to prepare themselves, their families, and their communities. To achieve equity in opportunities to prepare for disasters, FEMA proposes a series of qualitative focus groups, cognitive interviews, and targeted surveys to better understand individual experiences within historically underserved communities during recent disasters. FEMA Form 519-0-54 is a combined instrument that contains the script and question bank for conducting the focus groups, cognitive interviews, and surveys.

Affected Public: Individuals or households.

Estimated Number of Respondents: 3,120 respondents.

Estimated Number of Responses: 3,120 responses.

Estimated Total Annual Burden Hours: 740.

Estimated Total Annual Respondent Cost: $29,045.

Estimated Respondents' Operation and Maintenance Costs: $0.00.

Estimated Respondents' Capital and Start-Up Costs: $0.00.

Estimated Total Annual Cost to the Federal Government: $434,943.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Acting, Records Management Branch Chief, Office of the Chief Administrative Officer, Mission Support, Federal Emergency Management Agency, Department of Homeland Security.

[FR Doc. 2021-22216 Filed 10-12-21; 8:45 am]

BILLING CODE 9111-27-P